DEPARTMENT OF TRANSPORTATION

Federal Highway Administration (FHWA), and Federal Railroad Administration (FRA), DOT

Rescission of Notice of Intent

SUMMARY: This notice rescinds the previous notice of intent issued on January 19, 1996, to prepare an environmental impact statement for a proposed high speed rail improvement program between Portland, Oregon and Vancouver, British Columbia.

FOR FURTHER INFORMATION CONTACT: Gary S. Hughes, Federal Highway Administration, Evergreen Plaza Building, 711 South Capitol Way, Suite 501, Olympia, Washington 98501, Telephone: (360) 753-9025; David Valenstein, Federal Railroad Administration, 1120 Vermont Avenue NW., MS 20, Wahsington, DC 20590, Telephone: (202) 493-6368; Mr. James Slakey, Washington State Department of Transportation, 310 Maple Park East Olympia, Washington 98504, Telephone: (360) 705-7920.

SUPPLEMENTARY INFORMATION: The notice of intent to prepare an environmental impact statement for the multi-phase program plan to develop high-speed intercity passenger service on the 366-mile segment of the rail corridor between Portland, Oregon and Vancouver, British Columbia, was published January 19, 1996. The purpose of that EIS was to provide background for the decision whether or not to implement a comprehensive high-speed passenger rail program in the corridor, and to analyze the impacts of proposed improvements needed to implement Phase 1 of the program.

Since that date, the decision whether or not to implement a comprehensive high-speed rail program in the corridor has been deferred. An Intercity Passenger Rail Plan was developed for Washington State 1998-2018, which included an overview and analysis of environmental resources and impacts. That plan was deferred while several of the improvements originally proposed as Phase 1 of the rail plan have been incorporated into the improvement programs of other entities providing rail service on the corridor. Further analysis of the remaining four improvements proposed as part of Phase 1 has demonstrated that they have both logical termini and independent utility as stand-alone projects to improve existing services. Therefore, each will be developed independently with appropriate environmental processes to comply with the National Environmental Policy Act (NEPA).

(Catalog of Federal Domestic Assistance Program Number 20.205, Highway Research, Planning and Construction. The regulations implementing Executive Order 12372 regarding intergovernmental consultation of federal programs and activities apply to this program)

Issued on: July 27, 2000.
Gary S. Hughes,
Operations Team Leader, Federal Highway Administration, Washington Division.
Mark E. Yachmetz,
Associate Administrator for Railroad Development, Federal Railroad Administration.

[FR Doc. 00-21428 Filed 8-22-00; 8:45 am]

BILLING CODE 4910-22-M